DEPARTMENT OF LABOR

Employment and Training Administration

Information Regarding the Relocation of Foreign Labor Certification Staff in the Atlanta and Chicago Regional Offices to the Atlanta and Chicago National Processing Centers

AGENCY: Employment and Training Administration, Labor.

ACTION: Notice.

SUMMARY: The Employment and Training Administration (ETA) of the Department of Labor (Department or DOL) is issuing this Notice to announce that DOL has moved its foreign labor certification field staff in the Atlanta and Chicago Regional Offices to the new Atlanta and Chicago National Processing Centers. This Notice provides the public in the Atlanta and Chicago regions with contact information regarding these two new processing centers. All foreign labor certification processing activities previously conducted in the Atlanta and Chicago Regional Offices will now be assumed by the corresponding Atlanta or Chicago National Processing Centers.

The regulation to implement the re-engineered permanent labor certification program was published in the Federal Register on December 27, 2004. The National Processing Centers will continue current functions on an interim basis and ETA will provide additional guidance as to the handling of cases which will be filed under the new rule as well as backlogged permanent labor certification cases.

Employers in the Atlanta and Chicago regions requesting H-2A workers should simultaneously submit H-2A applications to their appropriate State Workforce Agency (SWA) and respective National Processing Center. These H-2A applications should no longer be submitted to ETA's Atlanta or Chicago Regional Offices. Employers in the Atlanta and Chicago regions requesting either permanent or H-2B workers should continue, until ETA publishes future guidance on this issue, to file permanent and H-2B applications with the appropriate SWA.

FOR FURTHER INFORMATION CONTACT: William Carlson, Chief, Division of Foreign Labor Certification, Employment and Training Administration, 200 Constitution Avenue, NW., Room C-4312, Washington, DC 20210; Telephone: (202) 693-3010 (this is not a toll-free number).

SUPPLEMENTARY INFORMATION: The two National Processing Centers opened as of December 13, 2004, and assumed, on an interim basis, responsibility for processing Applications for Alien Employment Certification (ETA Form 750) for permanent employment, and H-2A, and H-2B applications previously processed by ETA's Atlanta and Chicago Regional Offices. The two new National Processing Centers will handle permanent labor certification cases to be filed under the soon-to-be effective regulation implementing the new permanent labor certification program.

As recently announced, ETA has issued a new form to be used when filing applications under the H-1B and H-1B1 programs. Please see 69 FR 69412 published on November 29, 2004, for additional details. The mailing address and fax number for H-1B and H-1B1 case processing operations remain the same. The H-1B and H-1B1 address and fax number are: ETA Application Processing Center, P.O. Box 13640, Philadelphia, PA 19101, Fax: (800) 397-0478.

ADDRESSES: The following new addresses, phone numbers, and fax numbers should be used by employers and by SWAs for either inquiries or for the forwarding of application materials, as appropriate. Please note: for all application materials, inquiries, and other correspondence sent to either the Atlanta or Chicago National processing Center, envelopes should be clearly marked according to the appropriate program type, i.e., permanent, H-2A, or H-2B.

Atlanta Processing Center Address: U.S. Department of Labor Employment and Training Administration, Foreign Labor Certification National Processing Center, Harris Tower, 233 Peachtree Street, Suite 410, Atlanta, Georgia 30303, Phone: (404) 893-0101, Fax: (404) 893-4642.

Chicago Processing Center Address: U.S. Department of Labor Employment and Training Administration, Foreign Labor Certification National Processing Center, 844 North Rush Street, 12th Floor, Chicago, Illinois 60611, Phone: (312) 886-8000, Fax: (312) 886-1688.

Signed in Washington, DC, this 3rd day of January, 2005.
Emily Stover DeRocco,
Assistant Secretary, Employment and Training Administration.

[FR Doc. 05-332 Filed 1-6-05; 8:45 am]

BILLING CODE 4510-30-M